INTERNATIONAL TRADE COMMISSION

[USITC SE-10-028]

Sunshine Act Meeting Notice

AGENCY HOLDING THE MEETING: United States International Trade Commission.

TIME AND DATE: October 15, 2010 at 11 a.m.

PLACE: Room 101, 500 E Street, SW., Washington, DC 20436. Telephone: (202) 205-2000.

STATUS: Open to the public.

MATTERS TO BE CONSIDERED:

1. Agenda for future meetings: none.

2. Minutes.

3. Ratification List.

4. Inv. Nos. 701-TA-469 and 731-TA-1168 (Final) (Certain Seamless Carbon and Alloy Steel Standard, Line, and Pressure Pipe from China)—briefing and vote. (The Commission is currently scheduled to transmit its determinations and Commissioners' opinions to the Secretary of Commerce on or before October 27, 2010.)

5. Inv. Nos. 701-TA-249 and 731-TA-262, 263, and 265 (Third Review) (Iron Construction Castings from Brazil, Canada, and China)—briefing and vote. (The Commission is currently scheduled to transmit its determinations and Commissioners' opinions to the Secretary of Commerce on or before October 27, 2010.)

6. Outstanding action jackets:

(1) Document No. GC-10-161 concerning Inv. No. 337-TA-413 (Certain Rare-Earth Magnets and Magnetic Materials and Articles Containing Same).

In accordance with Commission policy, subject matter listed above, not disposed of at the scheduled meeting, may be carried over to the agenda of the following meeting.

Issued: October 8, 2010.
By order of the Commission.
William R. Bishop,
Hearings and Meetings Coordinator.

[FR Doc. 2010-25936 Filed 10-12-10; 11:15 am]

BILLING CODE 7020-02-P